COMMITTEE FOR PURCHASE FROM PEOPLE WHO ARE BLIND OR SEVERELY DISABLED

Procurement List Proposed Additions and Deletions

AGENCY: Committee for Purchase From People Who Are Blind or Severely Disabled.

ACTION: Proposed additions to and deletions from Procurement List.

SUMMARY: The Committee is proposing to add to the Procurement List products and services to be furnished by nonprofit agencies employing persons who are blind or have other severe disabilities, and to delete products previously furnished by such agencies.

Comments Must Be Received on or Before: November 3, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the possible impact of the proposed actions.

Additions

If the Committee approves the proposed additions, the entities of the Federal Government identified in this notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: 4 Ply Cut End Mopheads, 7920-00-NIB-0430, 7920-00-NIB-0431, 7920-00-NIB-0432, 7920-00-NIB-0434, 7920-00-NIB-0435.

NPA: New York City Industries for the Blind, Brooklyn, New York.

Contract Activity: Office Supplies & Paper Products Acquisition Center, New York, New York.

Product/NSN: Plate, Paper, 7350-00-263-6700, 7350-01-263-6701.

NPA: The Lighthouse for the Blind in New Orleans, New Orleans, Louisiana.

Contract Activity: GSA, General Products Center, Fort Worth, Texas.

Product/NSN: U.S. Geological Survey Visual Identity Clothing, Item No. 001, Baseball Cap, Delta Dark Green, w/USGS Identifier, Item No. 002, T-Shirt, Ash, w/USGS Identifier, Item No. 003, T-Shirt, Orange, w/USGS Identifier, Item No. 004, T-Shirt, Navy Blue, w/USGS Identifier, Item No. 005, Polo Shirt, Dark Green, w/USGS Identifier, Item No. 006, Sweatshirt, Dark Green, w/USGS Identifier, Item No. 007, Baseball Cap, Navy, w/USGS Identifier, Item No. 008, Cruiser Vest, Orange, w/USGS Identifier, Item No. 009, Cruiser Vest, Khaki, w/USGS Identifier.

NPA: Delaware Division for the Visually Impaired, New Castle, Delaware.

Contract Activity: U.S. Geological Survey, Reston, Virginia.

Services

Service Type/Location: Facility Services, Retirement Operations Center, Boyers, Pennsylvania.

NPA: The Easter Seal Society of Western Pennsylvania, Pittsburgh, Pennsylvania.

Contract Activity: Office of Personnel Management, Washington, DC.

Service Type/Location: Grounds and Landscape Maintenance Services, San Jacinto Disposal Area, Fort Point Reservation Area, Galveston, Texas.

NPA: Training, Rehabilitation & Development Institute, Inc., San Antonio, Texas.

Contract Activity: U.S. Army Engineer District, Galveston, Texas.

Service Type/Location: Lawn Service, Naval Reserve Center, Cleveland, Ohio.

NPA: Goodwill Industries of Greater Cleveland, Inc., Cleveland, Ohio.

Contract Activity: Officer in Charge of Contracts, NAVFAC, Crane, Indiana.

Deletions

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for deletion from the Procurement List.

The following products are proposed for deletion from the Procurement List:

Products

Product/NSN: Sheath, Pen and Pencil, 7510-00-052-2664.

NPA: York County Blind Center, York, Pennsylvania.

Contract Activity: Office Supplies & Paper Products Acquisition Center, New York, New York.

Product/NSN: SPEAR Insulation Subsystem, 8415-01-F01-0197, 8415-01-F01-0204, 8415-01-F01-0211, 8415-01-F01-0218, 8415-01-F01-0219, 8415-01-F01-0220, 8415-01-F01-0221, 8415-01-F01-0222, 8415-01-F01-0223, 8415-01-F01-0224, 8415-01-F01-0225.

NPA: Peckham Vocational Industries, Inc., Lansing, Michigan.

Contract Activity: U.S. Army Soldier Systems Command, Natick, Massachusetts.

Sheryl D. Kennerly,
Director, Information Management.

[FR Doc. 02-25324 Filed 10-3-02; 8:45 am]

BILLING CODE 6353-01-P